GENERAL SERVICES ADMINISTRATION

Office of Management Services; Stocking of an Optional Form

AGENCY: General Services Administration.

ACTION: Notice.

SUMMARY: Because of tighter security throughout the Federal Government, any type of identification card has now been removed from the GSA forms Web site.

Since the form is authorized for local reproduction, agencies can only request a camera copy to use for printing from: Forms Management, (202) 501-0581 or e-mail to barbm.williams@gsa.gov.

DATES: Effective June 12, 2003.

FOR FURTHER INFORMATION CONTACT: Ms. Barbara Williams, General Services Administration, (202) 501-0581.

Dated: June 4, 2003.
Barbara M. Williams,
Deputy Standard and Optional Forms Management Officer, General Services Administration.

[FR Doc. 03-14838 Filed 6-11-03; 8:45 am]

BILLING CODE 6820-34-M